NATIONAL INSTITUTE FOR LITERACY

[CFDA No. 84.257T]

NIFL Regional Technology Centers Project; Notice Inviting Applications for New Awards for Fiscal Year 2000

AGENCY: The National Institute for Literacy (NIFL).

ACTION: Notice; correction.

SUMMARY: The National Institute for Literacy published an announcement in the Federal Register of June 9, 2000, Notice of Awards being offered. The document contained an incorrect deadline submission date.

FOR FURTHER INFORMATION CONTACT: Jaleh Behroozi Soroui; LINCS Director; National Institute for Literacy; 1775 I Street, NW., Suite 730; Washington, DC 20006; Telephone: 202-233-2039; FAX: 202-233-2050; E-mail: jbehroozi@nifl.gov

Correction

In the Federal Register of June 9, 2000, in FR Doc. 00-14548, on page 36733, in the third column, correct the submission “date” caption to read:

7. Take advantage of the strengths and unique capabilities of each region, the regional training centers will work with each other and the NIFL to coordinate their activities, and whenever possible carryout joint activities, in order to maximize the total mount of resources available to LINCS and allow them to have the greatest impact possible.

Deadline for Applications: July 17, 2000.

Dated: July 20, 2000.
Sharyn Abbott,
Executive Officer.

[FR Doc. 00-15972 Filed 6-22-00; 8:45 am]

BILLING CODE 6055-01-M